DEPARTMENT OF DEFENSE

Department of the Army

Notice of Intent To Prepare an Environmental Impact Statement for Training Land Purchase at Fort Polk, LA

AGENCY: Department of the Army, DoD.

ACTION: Notice of Intent (NOI).

SUMMARY: The U. S. Army intends to prepare an Environmental Impact Statement (EIS) to analyze environmental and socioeconomic impacts connected with the proposed purchase and use of up to 100,000 additional acres of commercial and private lands for training adjacent to Fort Polk. This action will support the training requirements of the Joint Readiness Training Center (JRTC) and the training requirements of Fort Polk's current and future resident units. The EIS will analyze alternatives that are deemed feasible and meet the purpose and need for this Proposed Action.

FOR FURTHER INFORMATION CONTACT: Ms. Susan Walker, Fort Polk Public Affairs Office (PAO), 7073 Radio Road, Fort Polk, LA 71459-5342; or by phone at (337) 531-9125 during normal business hours from 9 a.m. to 5 p.m. c.s.t. Written comments may be mailed to the PAO address or e-mailed to Susan.T.Walker@conus.army.mil.

SUPPLEMENTARY INFORMATION: Fort Polk, located in west-central Louisiana, is home to the JRTC Operations Group; 1st Maneuver Enhancement Brigade; Brigade, 10th Mountain Division; 1st Battalion, 509th Infantry Regiment; 162 Infantry Training Brigade; 5th Aviation Battalion; and the 115th Combat Support Hospital. Fort Polk's primary missions include supporting these units and the operations of one of the Army's Combat Training Centers (CTC), the Joint Readiness Training Center (JRTC). The JRTC is one of three Army Maneuver CTCS and is the only CTC that is focused on Army light forces. Army CTCs provide units and Soldiers with the most challenging and realistic training possible.

Fort Polk is currently comprised of approximately 198,130 acres of U.S. Army owned land and lands the Army uses under a U.S. Forest Service permit. In order to meet the training requirements of Fort Polk's units and the JRTC, the Army has identified a need to purchase up to 100,000 acres of additional land to enhance realistic training conditions. The Army proposes to purchase additional maneuver training land to better meet the training needs of the JRTC and Fort Polk's current and future resident units. This additional land will enhance training for Fort Polk units and units deploying to JRTC and will allow Soldiers to train to more realistic standards in preparation for operational deployment.

The Fort Polk EIS will analyze the environmental and socioeconomic impacts of several purchase location alternatives, each of which could include the purchase of up to 100,000 acres of land. Alternative I considers the purchase of lands directly adjacent to Fort Polk's existing training areas to the south of Peason Ridge and directly north and east of the main post. Alternative 2 considers the purchase of lands to the south and east of Peason Ridge and parcels that connect Peason Ridge with Fort Polk's main post. As part of Alternative 2, two parcels of land directly adjacent to the eastern side of main post are also being considered for purchase. The Army will also analyze the No Action Alternative, which will evaluate the impacts of taking no action to purchase additional training land around Fort Polk. Resource areas which may be impacted include air quality, traffic, noise, water resources, biological resources, cultural resources, socioeconomics, utilities, land use, solid and hazardous materials/waste, and cumulative environmental effects. Impacts to these resources may occur as a result of converting from existing land uses to military training.

The public is invited to participate in the scoping process. The scoping process begins with the publication of this Notice of Intent in the Federal Register and will last for 30 days. The scoping process will include at least three public scoping meetings, which are opportunities for the public to receive information about the proposed action and alternatives and to assist the Army in determining issues related to the proposed purchase to be addressed in the EIS. These meetings will be held in communities surrounding Fort Polk and the specific details of the meetings will be announced in local media sources. The public will also be invited to review and comment on the Draft EIS when it is available for review. Comments from the public will be considered before any decision is made regarding implementing the proposed action at Fort Polk.

Dated: April 8, 2009.
H.E. Wolfe,
Principal Assistant, Deputy Assistant Secretary of the Army, Environment, Safety and Occupational Health.

[FR Doc. E9-8622 Filed 4-16-09; 8:45 am]

BILLING CODE